ENVIRONMENTAL PROTECTION AGENCY

[FRL-9968-18-OP]

EPA Smart Sectors Program Launch

AGENCY: Environmental Protection Agency (EPA).

ACTION: Notice.

SUMMARY: The U.S. Environmental Protection Agency (EPA) is announcing the Smart Sectors program in the Office of Policy. Based on the successful EPA Sector Strategies program, EPA's Smart Sectors program will re-examine how EPA engages with industry in order to reduce unnecessary regulatory burden, create certainty and predictability, and improve the ability of both EPA and industry to conduct long-term regulatory planning while also protecting the environment and public health.

FOR FURTHER INFORMATION CONTACT: Daisy Letendre, Senior Advisor for Policy and Strategic Communications, Office of Policy, Office of Administrator, Environmental Protection Agency, Mail Code: 1104A, 1200 Pennsylvania Ave. NW., Washington, DC 200460; telephone number: (202) 564-0410; email address: sectors@epa.gov.

SUPPLEMENTARY INFORMATION:

General Information

EPA has initially identified the following sectors to work with: Aerospace; agriculture; automotive; cement and concrete; chemical manufacturing; construction; electronics and technology; iron and steel; oil and gas; ports and shipping; and utilities and power generation. Sectors were selected based on each sector's potential to improve the environment and public health. EPA welcomes participation from other stakeholders.

The Smart Sectors program will designate staff-level points of contact who are highly knowledgeable about specific industries. These individuals will act as liaisons among industry trade associations and companies, EPA program and regional offices, state and local governments, and other stakeholder groups. The sector liaisons will focus their attention primarily on three main areas: Building relationships and improving customer service to sectors; developing additional expertise in each industry's operations and environmental performance; and informing the planning of future policies, regulations, and Agency processes.

EPA anticipates that participating industries will benefit from coordinated, cooperative, and constructive problem-solving with government. The Agency will invite participating industries to engage in active dialogue and offer their own innovative ideas to reduce environmental impacts. Because industry-wide environmental performance improvement is the goal, EPA will work with trade associations and others to find creative ways to document environmental progress and burden reductions.

Dated: September 14, 2017.
Samantha K. Dravis,
Associate Administrator for Policy.

[FR Doc. 2017-20310 Filed 9-25-17; 8:45 am]

BILLING CODE 6560-50-P